DEPARTMENT OF COMMERCE

National Oceanic and Atmospheric Administration

RIN 0648-XD58

Endangered Species; File No. 1591

AGENCY: National Marine Fisheries Service (NMFS), National Oceanic and Atmospheric Administration (NOAA), Commerce.

ACTION: Issuance of permit.

SUMMARY: Notice is hereby given that NMFS Southwest Fisheries Science Center (Lisa Ballance, Responsible Official), 8604 La Jolla Shores Drive, La Jolla, CA 92038 has been issued a permit to take green (Chelonia mydas), loggerhead (Caretta caretta), and olive ridley (Lepidochelys olivacea) sea turtles for purposes of scientific research.

ADDRESSES: The permit and related documents are available for review upon written request or by appointment in the following offices:

Permits, Conservation and Education Division, Office of Protected Resources, NMFS, 1315 East-West Highway, Room 13705, Silver Spring, MD 20910; phone (301)713-2289; fax (301)427-2521; and

Southwest Region, NMFS, 501 West Ocean Blvd., Suite 4200, Long Beach, CA 90802-4213; phone (562)980-4001; fax (562)980-4018.

FOR FURTHER INFORMATION CONTACT: Patrick Opay or Amy Hapeman, (301)713-2289.

SUPPLEMENTARY INFORMATION: On September 22, 2006, notice was published in the Federal Register (71 FR 55431) that a request for a scientific research permit to take green, loggerhead, and olive ridley sea turtles had been submitted by the above-named organization. The requested permit has been issued under the authority of the Endangered Species Act of 1973, as amended (ESA; 16 U.S.C. 1531 et seq.) and the regulations governing the taking, importing, and exporting of endangered and threatened species (50 CFR parts 222 through 226).

Researchers will study the species present at this foraging area to determine their abundance, size ranges, growth, sex ratio, health status, diving behavior, local movements, habitat use, and migration routes. Turtles will be captured using entanglement nets and each animal will be flipper and passive integrated transponder (PIT) tagged, measured, weighed, sexed, blood sampled, and tissue sampled. A subset of animals will be lavaged and have transmitters attached to their carapace. A primary goal of the research will be to integrate data from genetic analysis, flipper tagging, and satellite telemetry to identify nesting beach origins of turtles occurring in San Diego Bay and contribute to the overall understanding of sea turtle stock structure in the Pacific Ocean. Researchers will compare current data with those collected in San Diego Bay since 1989 to determine growth rates of juveniles and adults, determine tag retention rates, and examine population abundance trends. Genetic studies based on blood and tissue samples are part of an international collaboration to define stock structure of sea turtles in the Pacific. Up to 85 green, 8 loggerhead, and 8 olive ridley sea turtles will be taken annually. The permit is issued for 5 years.

Issuance of this permit, as required by the ESA, was based on a finding that such permit (1) was applied for in good faith, (2) will not operate to the disadvantage of such endangered or threatened species, and (3) is consistent with the purposes and policies set forth in section 2 of the ESA.

Dated: October 24, 2007.
P. Michael Payne,
Chief, Permits, Conservation and Education Division, Office of Protected Resources, National Marine Fisheries Service.

[FR Doc. E7-21335 Filed 10-29-07; 8:45 am]

BILLING CODE 3510-22-S